DEPARTMENT OF COMMERCE

International Trade Administration

[C-580-879]

Certain Corrosion-Resistant Steel Products From the Republic of Korea: Preliminary Results of Changed Circumstances Review

AGENCY: Enforcement and Compliance, International Trade Administration, Department of Commerce.

SUMMARY: The U.S. Department of Commerce (Commerce) is issuing the preliminary results of the changed circumstances review (CCR) of the countervailing duty (CVD) order on certain corrosion-resistant steel products (CORE) from the Republic of Korea (Korea) with respect to Dongkuk Coated Metal Co., Ltd. (Dongkuk CM). Commerce preliminary determines that Dongkuk CM is not the successor-in-interest (SII) to Dongkuk Steel Mill Co., Ltd. (Old Dongkuk Steel) with respect to the CVD order on CORE from Korea. Interested parties are invited to comment on these preliminary results.

DATES: Applicable August 20, 2025.

FOR FURTHER INFORMATION CONTACT: Shane Subler, AD/CVD Operations, Office VIII, Enforcement and Compliance, International Trade Administration, U.S. Department of Commerce, 1401 Constitution Avenue NW, Washington, DC 20230; telephone: (202) 482-6241.

SUPPLEMENTARY INFORMATION:

Background

On July 25, 2016, Commerce published in the Federal Register the CVD order on CORE from Korea.¹ On February 9, 2024, Dongkuk CM requested the initiation of a CCR to determine that it is the SII to Old Dongkuk Steel.² On May 15, 2024, we initiated a CCR of the Order pursuant to section 751(b)(1) of the Tariff Act of 1930, as amended (the Act), 19 CFR 351.216(b), and 19 CFR 351.221(b)(1).³ On February 4, 2025, Commerce extended the deadline for the final results of the CCR by 45 days.⁴ On March 19, May 15, and August 11, 2025, Commerce extended the final results of the CCR by an additional 45, 91, and 91 days, respectively.⁵

¹ See Certain Corrosion-Resistant Steel Products from India, Italy, Republic of Korea and the People's Republic of China: Countervailing Duty Order, 81 FR 48387 (July 25, 2016) (Order).

² See Dongkuk CM's Letter, “Request for Changed Circumstances Review and Successor-in-Interest Determination,” dated February 9, 2024 (Dongkuk CM's CCR Request).

³ See Certain Corrosion-Resistant Steel Products from the Republic of Korea: Notice of Initiation of Countervailing Duty Changed Circumstances Review, 89 FR 42446 (May 15, 2024).

⁴ See Memorandum, “Extension of Deadline for Final Results of Changed Circumstances Review,” dated February 4, 2025.

⁵ See Memorandum, “2nd Extension of Deadline for Final Results of Changed Circumstances Review,” dated March 19, 2025; see also Memorandum, “3rd Extension of Deadline for Final Results of Changed Circumstances Review,” dated May 15, 2025; and Memorandum, “4th Extension of Deadline for Final Results of Changed Circumstances Review,” dated August 11, 2025 (August 11 Extension Memorandum).

Scope of the Order

The merchandise covered by this Order is CORE from Korea. For a complete description of the scope of the Order, see the Preliminary Decision Memorandum.⁶

⁶ See Memorandum, “Decision Memorandum for the Preliminary Results of the Changed Circumstances Review of the Countervailing Duty Order on Certain Corrosion-Resistant Steel Products from the Republic of Korea,” dated concurrently with, and hereby adopted by, this notice (Preliminary Decision Memorandum).

Preliminary Results of Changed Circumstances Review

Pursuant to section 751(b) of the Act, Commerce is conducting a CCR based on a request from an interested party ⁷ that shows changed circumstances sufficient to warrant a review of an Order. In accordance with 19 CFR 351.221(b)(4) and (c)(3)(i), we preliminary find that Dongkuk CM is not the SII to Old Dongkuk Steel. Accordingly, we also preliminarily find that Old Dongkuk Steel's exclusion from the Order does not apply to Dongkuk CM.⁸

⁷ Dongkuk CM is a producer and exporter of CORE from Korea. See Dongkuk CM's CCR Request at 1.

⁸ Commerce excluded Old Dongkuk Steel from the Order because it had a de minimis overall subsidy rate in the investigation segment of this proceeding. See Order, 81 FR at 48388-48389.

For a complete discussion of our preliminary SII analysis with respect to Dongkuk CM, see the Preliminary Decision Memorandum. A list of topics discussed in the Preliminary Decision Memorandum is included as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Public Comment

Interested parties are invited to comment on the preliminary results of this CCR in accordance with 19 CFR 351.309(c)(1)(ii). Comments may be submitted to Commerce no later than 21 days after the date of publication of this notice.⁹ Rebuttal comments may be filed with Commerce no later than five days after the comments are filed.¹⁰ Interested parties who submit case briefs or rebuttal briefs in this proceeding must submit: (1) a table of contents listing each issue; and (2) a table of authorities.¹¹

⁹ Commerce is exercising its discretion under 19 CFR 351.309(c)(1)(ii) to alter the time limit for the filing of case briefs. See 19 CFR 351.309(c)(1)(ii).

¹⁰ See 19 CFR 351.309(d)(1).

¹¹ See 19 CFR 351.309(c)(2) and (d)(2).

As provided under 19 CFR 351.309(c)(2) and (d)(2), in prior proceedings we have encouraged interested parties to provide an executive summary of their brief that should be limited to five pages total, including footnotes. In this CCR, we instead request that interested parties provide at the beginning of their briefs a public, executive summary for each issue raised in their briefs.¹² Further, we request that interested parties limit their executive summary of each issue to no more than 450 words, not including citations. We intend to use the executive summaries as the basis of the comment summaries included in the issues and decision memorandum that will accompany the final results in this CCR. We request that interested parties include footnotes for relevant citations in the executive summary of each issue. Note that Commerce has amended certain of its requirements pertaining to the service of documents in 19 CFR 351.303(f).¹³ All submissions must be filed electronically using the Enforcement and Compliance's ACCESS. An electronically filed document must be received successfully in its entirety in ACCESS by 5:00 p.m. Eastern Time on the due date set forth in this notice.

¹² We use the term “issue” here to describe an argument that Commerce would normally address in a comment of the Issues and Decision Memorandum.

¹³ See Administrative Protective Order, Service, and Other Procedures in Antidumping and Countervailing Duty Proceedings; Final Rule, 88 FR 67069 (September 29, 2023).

Pursuant to 19 CFR 351.310(c), interested parties who wish to request a hearing must submit a written request to the Assistant Secretary for Enforcement and Compliance, filed electronically via ACCESS, within ten days of publication of this notice in the Federal Register. Requests should contain: (1) the party's name, address, and telephone number; (2) the number of participants; and (3) a list of issues to be discussed. Issues raised in the hearing will be limited to those raised in the respective case briefs. If a request for a hearing is made, Commerce intends to hold the hearing at a time and date to be determined. Parties should confirm the date and the time of the hearing two days before the scheduled date.

Final Results of the Changed Circumstances Review

Commerce intends to issue the final results of this CCR, which will include its analysis of any written comments, no later than November 17, 2025, unless otherwise extended.¹⁴ The current requirement for cash deposits of estimated countervailing duties on all entries of subject merchandise are changing because of the preliminary results of this CCR. As explained in the Preliminary Decision Memorandum, for entries of CORE from Korea produced and/or exported by Dongkuk CM that are entered, or withdrawn from warehouse, for consumption in the United States on or after the date of publication of the preliminary results of this CCR, importers must identify the merchandise as subject to CVDs (e.g., type 03) with U.S. Customs and Border Protection. Further, parties may request annual administrative reviews of Dongkuk CM going forward, pursuant to section 751 of the Act.

¹⁴ See August 11 Extension Memorandum.

Notification to Interested Parties

These preliminary results of a CCR and this notice are published in accordance with sections 751(b) and 777(i) of the Act, 19 CFR 351.216, and 19 CFR 351.221(c)(3).

Dated: August 14, 2025.
Abdelali Elouaradia,
Deputy Assistant Secretary for Enforcement and Compliance.

Appendix

List of Topics Discussed in the Preliminary Decision Memorandum

I. Summary

II. Background

III. Scope of the Order

IV. Preliminary Successor-in-Interest Determination

V. Recommendation

[FR Doc. 2025-15922 Filed 8-19-25; 8:45 am]

BILLING CODE 3510-DS-P